DEPARTMENT OF LABOR

Employment and Training Administration

[TA-W-62,613]

Longview Fibre Paper and Packaging, Inc., Longview Mill, Formerly Longview Fibre Company, Including On-Site Leased Workers From Oregon Electric and J.H. Kelly, Longview, WA; Amended Notice of Revised Determination on Reconsideration

In accordance with section 223 of the Trade Act of 1974 (19 U.S.C. 2273), and section 246 of the Trade Act of 1974 (26 U.S.C. 2813), as amended, the Department of Labor issued a Notice of Revised Determination on Reconsideration on April 16, 2008. The notice was published in the Federal Register on April 23, 2008 (73 FR 21992-21993).

At the request of the State agency, the Department reviewed the Notice of Revised Determination on Reconsideration for workers of the subject firm. The workers are engaged in the production of kraft paper.

New information shows that workers leased workers from Oregon Electric and J.H. Kelly were employed on-site at the Longview, Washington location of Longview Fibre Paper and Packaging, Inc., Longview Mill, Formerly Longview Fibre Company. The Department has determined that these workers were sufficiently under the control of Longview Fibre Paper and Packaging, Inc., Longview Mill, Formerly Longview Fibre Company to be considered leased workers.

Based on these findings, the Department is amending this revised determination to include workers leased from Oregon Electric and J.H. Kelly working on-site at the Longview, Washington location of the subject firm.

The intent of the Department's certification is to include all workers adversely affected by increased imports of kraft paper who were employed at Longview Fibre Paper and Packaging, Inc., Longview Mill, formerly Longview Fibre Company, Longview, Washington.

The amended notice applicable to TA-W-62,613 is hereby issued as follows:

All workers of Longview Fibre Paper and Packaging, Inc., Longview Mill, formerly Longview Fibre Company, including on-site leased workers from Oregon Electric and J.H. Kelly, Longview, Washington, engaged in the production of kraft paper, who became totally or partially separated from employment on or after December 27, 2006, through April 16, 2010, are eligible to apply for adjustment assistance under Section 223 of the Trade Act of 1974, and are also eligible to apply for alternative trade adjustment assistance under Section 246 of the Trade Act of 1974.

Signed at Washington, DC, this 17th day of July 2009.
Elliott S. Kushner,
Certifying Officer, Division of Trade Adjustment Assistance.

[FR Doc. E9-18181 Filed 7-29-09; 8:45 am]

BILLING CODE 4510-FN-P